DEPARTMENT OF HOUSING AND URBAN DEVELOPMENT

[Docket No. FR-4451-N-07]

Notice of PHAs Eligible for FY 2000 Funding and Final Opportunity To Obtain FY 1999 Funding Under the Public Housing Drug Elimination Program

AGENCY: Office of the Assistant Secretary for Public and Indian Housing, HUD.

ACTION: Notice of PHAs eligible for FY 2000 funding and final opportunity to obtain FY 1999 funding under the Public Housing Drug Elimination Program (PHDEP).

SUMMARY: The Department of Housing and Urban Development (HUD) is publishing the list of public housing agencies (PHAs) eligible to receive FY 2000 PHDEP funding and also notifying PHAs that are eligible, but have not applied, to receive Public Housing Drug Elimination Program (PHDEP) FY 1999 funding that they have one final opportunity to apply for this funding.

DATES: Application due date (for PHAs listed in this notice that are eligible for FY 1999 PHDEP funding but that have not yet applied): June 26, 2000.

A PHA that qualifies to receive PHDEP funding for FY 2000 must include a PHDEP plan that meets the requirements of 24 CFR 761.21 with its PHA Plan submitted pursuant to 24 CFR part 903 and applicable PIH Notices.

ADDRESSES: For FY 1999 PHDEP funding: Submit an original and two copies of the information requested to the local Field Office with delegated public housing responsibilities: Attention: Director, Office of Public Housing. For a listing of Field Offices, please see the application kit, or the Appendix published in the February 26, 1999 SuperNOFA at 64 FR 9767.

FOR FURTHER INFORMATION CONTACT: Bertha M. Jones, Program Analyst, Community Safety and Conservation Division, Office of Public and Indian Housing, Department of Housing and Urban Development, 451 Seventh Street, SW, Washington, DC 20410, telephone (202) 708-1197 x.4237 (this is not a toll-free number). For further information on the PHA Plan (including applicable PIH Notices) see HUD's PHA Plan website at http://www.hud.gov/pih/pha/plans/phaps-home.html or contact Beth Cooper, Program Analyst, Office of Policy, Program and Legislative Initiatives, telephone (202) 708-0713. Hearing or speech-impaired individuals may access these numbers via TTY by calling the toll-free Federal Information Relay Service at 1-800-877-8339.

SUPPLEMENTARY INFORMATION:

I. Final Opportunity To Obtain FY 1999 PHDEP Funding

In a final rule published September 14, 1999 (64 FR 49899) implementing the formula allocation of PHDEP funding, HUD published a list of PHAs eligible for FY 1999 funding. The listed PHAs were required to submit an application in accordance with the Notice Withdrawing and Reissuing the FY 1999 PHDEP NOFA published on May 12, 1999 (64 FR 25746) in order to receive this funding.

Of the approximately $231,750,000 in FY 1999 funding made available, $5,960,669 has not been claimed by 110 PHAs that were eligible to receive funding but did not submit applications. HUD is providing these PHAs, listed below along with the amounts they are eligible to receive, one final opportunity to receive FY 1999 PHDEP funding. Any PHA included in the list must submit an application in accordance with the May 12, 1999 notice by the date listed in the DATES: heading at the beginning of this notice in order to receive FY 1999 PHDEP funding.

PHA code and PHA name | Amount
AL175—Livingston Housing Authority | $25,000
AL178—Dadeville Housing Authority | 25,000
AR037—Prescott Housing Authority | 25,000
AZ003—Glendale Housing Authority | 34,091
AZ008—Winslow Housing Authority | 25,000
AZ013—Yuma County Housing Authority | 34,971
AZ023—Nogales Housing Authority | 49,926
AZ038—Peoria Housing Authority | 25,000
CA007—County of Sacramento Housing & Redevelopment Agency | 234,017
CA009—Upland Housing Authority | 25,000
CA025—City of Eureka Housing Authority | 43,548
CA030—Tulare County Housing Authority | 157,037
CA058—City of Berkeley Housing Authority | 25,000
CA059—County of Santa Clara Housing Authority | 116,568
CA067—ALameda County Housing Authority | 51,026
CA142—Dublin Housing Authority | 32,991
CO0014—Wellington Housing Authority | 21,000
CO028—Colorado Springs Housing Authority | 155,498
CO035—Greeley Housing Authority | 25,000
CO041—Fort Collins Housing Authority | 33,871
CO049—Lakewood Housing Authority | 45,968
CO052—Aurora Housing Authority | 44,208
CO059—Louisville Housing Authority | 6,500
CO061—Boulder County Housing Authority | 25,000
FL061—Dunedin Housing Authority | 25,000
FL119—Boca Raton Housing Authority | 25,000
FL136—Hollywood Housing Authority | 26,393
GA081—Hartwell Housing Authority | 39,589
GA085—Quitman Housing Authority | 47,727
GA161—Harris County Housing Authority | 21,500
GA214—Ellaville Housing Authority | 20,000
IA018—Sioux City Housing Authority | 15,000
IA023—Council Bluffs Housing Authority | 64,882
IA050—Waterloo Housing Authority | 25,000
IA131—Central Iowa Housing AUthority | 30,352
ID021—Ada Housing Authority | 5,000
IL009—Henry County Housing AUthority | 102,492
IL078—Bond City Housing Authority | 33,871
IN020—Mishawaka Housing | 65,762
IN021—Terre Haute | 191,788
KS004—Wichita Housing Authority | 127,126
KS038—Salina Housing Authority | 35,850
KS043—Olathe Housing Authority | 28,592
KS063—Manhattan Housing Authority | 57,624
KS068—Leavenworth Housing Authority | 25,000
MD012—Havre De Grace Housing Authority | 25,000
MI003—Dearborn Housing Commission Housing Authority | 73,240
MI004—Hamtramck Housing Commission Housing Authority | 98,973
MI014—Albion Housing Commission | 48,387
MI031—Muskegon Heights Housing Authority | 76,759
MI035—Battle Creek Housing Commission | 91,715
MI055—Livonia Housing Commission | 38,929
MI089—Taylor Housing Commission | 25,000
MI157—Sterling Heights Housing Commission | 33,651
MN152—Bloomington HRA Housing Authority | 10,000
MO003—St. Joseph Housing Authority | 39,589
MO030—Lee's Summit Housing Authority | 25,513
MO070—Richmond Housing Authority | 25,953
MT002—Great Falls Housing Authority | 107,771
NC059—Housing Authority of Graham | 37,390
NC174—Vance County Housing Authority | 25,000
NE002—Lincoln Housing Authority | 70,381
NE003—Hall County Housing Authority | 86,437
NE125—North Platte Housing Authority | 54,985
NE153—Douglas County Housing Authority | 25,000
NE174—Bellevue Housing Authority | 25,000
NY029—Lackawanna Housing Authority | 107,990
NY033—Rensselaer Housing Authority | 32,111
NY077—Town of Islip Housing Authority | 77,419
OH023—London Metropolitan Housing Authority | 25,000
OR014—Marion Housing Authority | 24,500
PA003—Scranton Housing Authority | 291,420
PA004—Allentown Housing Authority | 317,814
PA071—Berks County Housing Authority | 45,968
RI011—Warwick Housing Authority | 114,149
SD016—Sioux Falls Housing Authority | 12,500
SD045—Pennington County Housing Authority | 109,970
TN008—Paris Housing Authority | 43,108
TN011—Pulaski Housing Authority | 52,786
TN041—Covington Housing Authority | 58,064
TN076—Elizabethton Housing and Development Agency | 71,701
TN095—Shelby County Housing Authority | 38,490
TX020—Bryan Housing Authority | 65,982
TX085—Victoria Housing Authority | 70,601
TX092—Ladonia Housing Authority | 10,000
TX173—Port Isabel Housing Authority | 33,431
TX257—Slaton Housing Authority | 25,000
TX379—Midland Housing Authority | 25,000
TX395—Port Lavaca Housing Authority | 25,000
TX406—Huntsville Housing Authority | 25,000
TX452—Bexar County Housing Authority | 15,000
UT002—Ogden Housing Authority | 48,387
UT011—Utah County Housing Authority | 25,000
UT025—West Valley City Housing Authority | 9,000
VA013—Lynchburg Redevelopment & Housing Authority | 74,560
VT005—Barre Housing Authority | 81,158
WA006—Everett Housing Authority | 137,903
WA025—Bellingham Housing Authority | 116,129
WA030—Sedro Woolley Housing Authority | 25,000
WA041—Whatcom County Housing Authority | 25,000
WA042—Yakima Housing Authority | 29,472
WA054—Pierce County Housing Authority | 34,091
WA055—Spokane Housing Authority | 27,493
WI074—Green Bay Housing Authority | 44,868
WI183—Racine County Housing Authority | 11,000
WV006—Martinsburg Housing Authority | 71,920
WV009—Fairmont Housing Authority | 29,912
WV018—Bluefield Housing Authority | 36,290
WV027—Clarksburg Housing Authority | 71,041
Total | 5,960,669

II. Reporting Requirements Reminder

In accordance with 24 CFR 761.35, recipients of PHDEP funds are required to report the performance of approved activities for each grant on a semi-annual basis and to report final performance at the end of the grant term. The semi-annual performance report must be submitted electronically over the Internet by accessing the following URL address: http://www.hud.gov/pih/systems/ibs/phdep/phdep.html. The semi-annual financial status report (SF 269A—not an electronic submission) must be submitted to the appropriate Field Office or Area Offices of ONAP. Grantees are required to submit semi-annual reports by July 30th for the January-June reporting period and by January 31st for the July-December reporting period. PHDEP grant funds may be suspended if reports are not submitted by the deadline.

III. PHAs Eligible for FY 2000 Funding

The following tables are the listings of PHAs that qualify for PHDEP Funding for FY 2000. There is one table for each of the three categories of eligible PHAs. The first table includes an eligibility designation of “R” in the third column, which means that each listed PHA is eligible for funding as a “preference PHA” under § 761.15(a)(2). In Table 2, the designation of “N1” in the third column means the PHA was designated eligible on the basis of need as determined under the formula in § 761.15(a)(3). In Table 3, the designation of “N2” means the PHA is eligible on the basis of need as a PHA that qualified for funding under FYs 1996, 1997 or 1998, but was not funded because of the unavailability of funds, in accordance with § 761.15(a)(4).

The source of data for these listings is the PIH Information Center (PIC) and was captured in the PHDEP Formula database on March 7, 2000. The data captured reflects the PHA's inventory as of September 30, 1999.

Table 1
PHA code and PHA name | Eligibility
AK001—ALASKA HOUSING FINANCE CORPORATION | R
AL001—BIRMINGHAM | R
AL002—MOBILE | R
AL004—ANNISTON | R
AL005—PHENIX CITY | R
AL006—MONTGOMERY | R
AL007—DOTHAN | R
AL008—SELMA | R
AL010—FAIRFIELD | R
AL012—JASPER | R
AL014—GUNTERSVILLE | R
AL047—HUNTSVILLE | R
AL048—DECATUR | R
AL049—GREATER GADSDEN | R
AL050—AUBURN | R
AL054—FLORENCE | R
AL056—HALEYVILLE | R
AL057—SYLACAUGA | R
AL060—RUSSELLVILLE | R
AL061—OPELIKA | R
AL062—LANETT | R
AL064—CARBON HILL | R
AL068—SHEFFIELD | R
AL069—LEEDS | R
AL071—GUIN | R
AL073—OZARK | R
AL077—TUSCALOOSA | R
AL086—JEFFERSON COUNTY | R
AL088—LUVERNE | R
AL094—GEORGIANA | R
AL098—ALICEVILLE | R
AL099—SCOTTSBORO | R
AL105—TALLADEGA | R
AL110—PIEDMONT | R
AL112—OPP | R
AL114—LINEVILLE | R
AL115—ENTERPRISE | R
AL116—YORK | R
AL118—EUFAULA | R
AL122—CHILDERSBURG | R
AL125—BESSEMER | R
AL128—SAMSON | R
AL129—WALKER COUNTY | R
AL131—PRATTVILLE | R
AL132—GOODWATER | R
AL136—ASHLAND | R
AL139—JACKSONVILLE | R
AL147—BRIDGEPORT | R
AL152—NORTHPORT | R
AL155—GREENVILLE | R
AL157—GREENSBORO | R
AL159—LAFAYETTE | R
AL160—TUSKEGEE | R
AL165—FOLEY | R
AL166—CHICKASAW | R
AL167—STEVENSON | R
AL169—PRICHARD | R
AL171—UNIONTOWN | R
AL172—TALLASSEE | R
AL173—MONROEVILLE | R
AL174—ALEXANDER CITY | R
AL177—TROY | R
AL178—DADEVILLE | R
AL179—DALEVILLE | R
AL181—EVERGREEN | R
AL182—TRIANA | R
AL190—GREENE COUNTY | R
AL192—SO CENTRAL ALABAMA REGIONAL | R
AL199—VALLEY | R
AL202—MOBILE COUNTY | R
AR002—NORTH LITTLE ROCK HOUSING AUTHORITY | R
AR003—FORT SMITH | R
AR004—LITTLE ROCK HOUSING AUTHORITY | R
AR006—CONWAY HOUSING AUTHORITY | R
AR015—TEXARKANA | R
AR016—CAMDEN HOUSING AUTHORITY | R
AR017—PINE BLUFF HOUSING AUTHORITY | R
AR018—MAGNOLIA | R
AR031—HOT SPRINGS HOUSING AUTHORITY | R
AR037—PRESCOTT | R
AR051—CLARKSVILLE | R
AR065—STEPHENS | R
AR094—MALVERN HOUSING AUTHORITY | R
AR099—FORREST CITYRA | R
AR131—JONESBORO URBAN RENEWAL HA | R
AZ001—PHOENIX | R
AZ003—GLENDALE | R
AZ004—TUCSON | R
AZ006—FLAGSTAFF | R
AZ008—WINSLOW | R
AZ009—MARICOPA COUNTY | R
AZ010—PINAL COUNTY | R
AZ021—ELOY | R
AZ023—NOGALES | R
AZ025—SOUTH TUCSON | R
AZ028—CHANDLER | R
AZ035—YUMA CITY | R
AZ041—WILLIAMS | R
CA001—SAN FRANCISCO HSG AUTH | R
CA002—LOS ANGELES COUNTY (HACOLA) | R
CA003—OAKLAND HOUSING AUTHORITY | R
CA004—LOS ANGELES CITY (HACLA) | R
CA005—CITY OF SACRAMENTO | R
CA006—CITY OF FRESNO HSG AUTH | R
CA007—COUNTY OF SACRAMENTO | R
CA008—KERN COUNTY | R
CA010—CITY OF RICHMOND HSG AUTH | R
CA011—COUNTY OF CONTRA COSTA HSG AUT | R
CA019—SAN BERNARDINO COUNTY | R
CA021—SANTA BARBARA COUNTY | R
CA023—COUNTY OF MERCED HOUSING AUTHO | R
CA024—COUNTY OF SAN JOAQUIN HOUSING | R
CA025—CITY OF EUREKA HSG AUTH | R
CA026—COUNTY OF STANISLAUS HOUSING A | R
CA027—RIVERSIDE COUNTY | R
CA028—COUNTY OF FRESNO HSG AUTH | R
CA031—OXNARD | R
CA033—COUNTY OF MONTEREY HSG AUTH | R
CA039—CALEXICO CITY | R
CA044—YOLO COUNTY HSG AUTHORITY | R
CA052—COUNTY OF MARIN HOUSING AUTHOR | R
CA062—CITY OF ALAMEDA HOUSING AUTHOR | R
CA063—SAN DIEGO HOUSING COMMISSION | R
CA064—SAN LUIS OBISPO | R
CA069—CITY OF MADERA HOUSING AUTHORI | R
CA076—SANTA BARBARA CITY | R
CA092—VENTURA COUNTY | R
CA143—IMPERIAL VALLEY HOUSING AUTHORITY | R
CO001—DENVER | R
CO002—PUEBLO | R
CO016—BOULDER CITY | R
CT001—BRIDGEPORT HOUSING AUTHORITY | R
CT002—NORWALK HOUSING AUTHORITY | R
CT003—HARTFORD HOUSING AUTHORITY | R
CT004—NEW HAVEN HOUSING AUTHORITY | R
CT005—NEW BRITAIN HOUSING AUTHORITY | R
CT006—WATERBURY HOUSING AUTHORITY | R
CT007—STAMFORD HOUSING AUTHORITY | R
CT009—MIDDLETOWN HOUSING AUTHORITY | R
CT011—MERIDEN HOUSING AUTHORITY | R
CT013—EAST HARTFORD HOUSING AUTHORITY | R
CT015—ANSONIA HOUSING AUTHORITY | R
CT018—NORWICH HOUSING AUTHORITY | R
CT019—GREENWICH HOUSING AUTHORITY | R
CT020—DANBURY HOUSING AUTHORITY | R
CT023—BRISTOL HOUSING AUTHORITY | R
CT026—MANCHESTER HOUSING AUTHORITY | R
CT027—STRATFORD HOUSING AUTHORITY | R
CT029—WEST HAVEN HOUSING AUTHORITY | R
DC001—D.C HOUSING AUTHORITY | R
DE001—WILMINGTON HOUSING AUTHORITY | R
DE002—DOVER HOUSING AUTHORITY | R
DE004—DELAWARE STATE HSNG AUTH | R
FL001—JACKSONVILLE | R
FL002—ST. PETERSBURG | R
FL003—TAMPA | R
FL004—ORLANDO | R
FL005—MIAMI-DADE | R
FL006—PENSACOLA (AHC) | R
FL007—DAYTONA BEACH | R
FL008—SARASOTA | R
FL009—WEST PALM BEACH | R
FL010—FT. LAUDERDALE | R
FL011—LAKELAND | R
FL013—KEY WEST | R
FL015—NW FLORIDA REGIONAL | R
FL016—SANFORD | R
FL018—PANAMA CITY | R
FL019—COCOA | R
FL020—BREVARD COUNTY | R
FL022—NEW SMYRNA BEACH | R
FL023—BRADENTON | R
FL025—TITUSVILLE | R
FL028—POMPANO BEACH | R
FL032—OCALA | R
FL041—FT. PIERCE | R
FL046—CRESTVIEW | R
FL047FT.—MYERS | R
FL055—ARCADIA | R
FL056—MELBOURNE | R
FL057—PALATKA | R
FL060—PUNTA GORDA | R
FL063—GAINESVILLE | R
FL066—HIALEAH | R
FL069—FORT WALTON BEACH | R
FL070—ALACHUA COUNTY | R
FL071—LAKE WALES | R
FL072—DELAND | R
FL073—TALLAHASSEE | R
FL075—CLEARWATER | R
FL076—RIVIERA BEACH | R
FL079—BROWARD COUNTY | R
FL080—PALM BEACH COUNTY | R
FL081—DEERFIELD BEACH | R
FL083—DELRAY BEACH | R
FL104—PASCO COUNTY | R
FL139—WINTER HAVEN | R
FL144—MONROE COUNTY | R
GA001—AUGUSTA | R
GA002—SAVANNAH | R
GA003—ATHENS | R
GA004—COLUMBUS | R
GA005—ROME | R
GA006—ATLANTA | R
GA007—MACON | R
GA009—BRUNSWICK | R
GA010—MARIETTA | R
GA011—DECATUR | R
GA023—ALBANY | R
GA025—CEDARTOWN | R
GA028—WAYCROSS | R
GA059—GAINESVILLE | R
GA060—MOULTRIE | R
GA062—AMERICUS | R
GA063—CORDELE | R
GA065—WEST POINT | R
GA066—JESUP | R
GA069—DUBLIN | R
GA072—EATONTON | R
GA073—MONROE | R
GA074—ELBERTON | R
GA075—TOCCOA | R
GA076—DOUGLAS CITY | R
GA077—COCHRAN | R
GA078—EAST POINT | R
GA080—EASTMAN | R
GA082—CORNELIA | R
GA085—QUITMAN | R
GA090—ROYSTON | R
GA093—LAWRENCEVILLE | R
GA094—LAVONIA | R
GA095—NEWNAN | R
GA096—CAMILLA | R
GA098—PELHAM | R
GA100—VALDOSTA | R
GA102—ROCKMART | R
GA115—CLAYTON | R
GA116—CARROLLTON | R
GA119—CALHOUN | R
GA120—LYONS | R
GA133—ALMA | R
GA134—BLACKSHEAR | R
GA145—VIDALIA | R
GA147—SOCIAL CIRCLE | R
GA148—DALLAS | R
GA153—SUMMERVILLE | R
GA160—WARNER ROBINS | R
GA171—LOGANVILLE | R
GA182—MCDONOUGH | R
GA183—WINDER | R
GA193—MADISON | R
GA200—MILLEDGEVILLE | R
GA204—SENOIA | R
GA213—CANTON | R
GA226—CUTHBERT | R
GA232—COLLEGE PARK | R
GA237—DEKALB COUNTY | R
GA247—THOMASTON | R
GA254—BREMEN | R
GA264—FULTON COUNTY | R
GA268—HOUSTON COUNTY | R
GA280—FLINT AREA CONSOLIDATED | R
GA281—ETOWAH AREA | R
GQ001—GUAM | R
HI001—HAWAII HOUSING AND COMMUNITY DEVELOPMENT CORPORATI | R
IA020—DES MOINES | R
IL001—EAST ST. LOUIS HSG AUTH | R
IL002—CHICAGO HOUSING AUTHORITY | R
IL003—PEORIA HOUSING AUTHORITY | R
IL004—SPRINGFIELD HOUSING AUTHORITY | R
IL006—CHAMPAIGN COUNTY HSG AUTH | R
IL007—ALEXANDER COUNTY HSG AUTH | R
IL009—HENRY COUNTY HSG AUTH | R
IL011—DANVILLE HOUSING AUTHORITY | R
IL012—DECATUR HOUSING AUTHORITY | R
IL014—LASALLE COUNTY HSG AUTH | R
IL015—MADISON COUNTY HSG AUTH | R
IL018—ROCK ISLAND CITY HSG AUTH | R
IL022—ROCKFORD HOUSING AUTH | R
IL024—JOLIET HOUSING AUTHORITY | R
IL025—COOK COUNTY HSG AUTH | R
IL026—WAUKEGAN HSG AUTH | R
IL029—FREEPORT HOUSING AUTHORITY | R
IL030—ST. CLAIR CY HSG AUTH | R
IL039—KANKAKEE CTY HSG AUTH | R
IL051—BLOOMINGTON HSG AUTH | R
IL052—RANDOLPH CTY HSG AUTH | R
IL053—JACKSON CTY HSG AUTH | R
IL055—ALTON HSG AUTH | R
IL056—LAKE CTY HSG AUTH | R
IL059—JEFFERSON CTY HSG AUTH | R
IL061—FRANKLIN CTY HSG AUTH | R
IL078—BOND CTY HSG AUTH | R
IL083—WINNEBAGO CTY HSG AUTH | R
IL085—KNOX CTY HSG AUTH | R
IL090—AURORA HSG AUTH | R
IL091—WARREN CTY HSG AUTH | R
IL092—ELGIN HSG AUTH | R
IN003—FORT WAYNE HOUSING AUTHORITY | R
IN005—MUNCIE HOUSING AUTHORITY | R
IN007—KOKOMO HOUSING AUTHORITY | R
IN010—HAMMOND HOUSING AUTHORITY | R
IN011—GARY HOUSING AUTHORITY | R
IN015—SOUTH BEND HOUSING AUTHORITY | R
IN016—EVANSVILLE HOUSING AUTHORITY | R
IN017—INDIANAPOLIS HOUSING AGENCY | R
IN019—MICHIGAN CITY HOUSING AUTHORITY | R
IN023—JEFFERSONVILLE HOUSING AUTHORITY | R
IN026—ELKHART HOUSING AUTHORITY | R
IN029—EAST CHICAGO HOUSING AUTHORITY | R
KS001—KANSAS CITY, KS | R
KS002—TOPEKA | R
KS017—ATCHISON | R
KS053—LAWRENCE | R
KS062—CHANUTE | R
KS063—MANHATTAN | R
KY001—HA LOUISVILLE | R
KY002—HA COVINGTON | R
KY003—HA FRANKFORT | R
KY004—HA LEXINGTON | R
KY006—HA PADUCAH | R
KY011—HA HOPKINSVILLE | R
KY012—HENDERSON H/A | R
KY014—DANVILLE | R
KY016—RICHMOND | R
KY017—HA MAYSVILLE | R
KY020—MT STERLING | R
KY021—HA CYNTHIANA | R
KY022—HA LEBANON | R
KY025—LYON COUNTY | R
KY027—HA PAINTSVILLE | R
KY029—CUMBERLAND | R
KY030—MURRAY | R
KY031—WILLIAMSBURG | R
KY033—CATLETTSBURG | R
KY037—HICKMAN | R
KY038—MARTIN | R
KY041—MORGANTOWN | R
KY043—FULTON | R
KY047—CAMPBELLSVILLE | R
KY059—FALMOUTH | R
KY061—HA GEORGETOWN | R
KY063—BOWLING GREEN | R
KY064—COLUMBIA | R
KY070—CENTRAL CITY | R
KY072—PRINCETON | R
KY099—FRANKLIN | R
KY105—HOUSING AUTH OF JEFFERSON COUN | R
KY107—HA PIKEVILLE | R
LA001—NEW ORLEANS HOUSING AUTHORITY | R
LA003—EAST BATON ROUGE HSG AUTHORITY | R
LA004—LAKE CHARLES HOUSING AUTHORITY | R
LA005—LAFAYETTE (CITY) HOUSING AUTHORITY | R
LA006—MONROE HOUSING AUTHORITY | R
LA012—KENNER HOUSING AUTHORITY | R
LA027—NEW IBERIA HOUSING AUTHORITY | R
LA030—VILLE PLATTE HOUSING AUTHORITY | R
LA036—MORGAN CITY HOUSING AUTHORITY | R
LA045—ARCADIA HOUSING AUHTORITY | R
LA054—RUSTON HOUSING AUTHORITY | R
LA070—PATTERSON HOUSING AUTHORITY | R
LA080—LAFOURCHE PARISH HOUSING AUTHORITY | R
LA086—DERIDDER HOUSING AUTHORITY | R
LA089—HOMER HOUSING AUTHORITY | R
LA092—ST JAMES PARISH HOUSING AUTHORITY | R
LA095—ST. JOHN THE BAPTIST PARISH HOUSING AUTHORITY | R
LA106—DEQUINCY HOUSING AUTHORITY | R
LA115—NATCHITOCHES CITY HOUSING AUTHORITY | R
LA118—JENNINGS HOUSING AUTHORITY | R
LA166—NATCHITOCHES PARISH HOUSING AUTHORITY | R
MA001—LOWELL HOUSING AUTHORITY | R
MA002—BOSTON HOUSING AUTHORITY | R
MA003—CAMBRIDGE HOUSING AUTHORITY | R
MA005—HOLYOKE HOUSING AUTHORITY | R
MA006—FALL RIVER HOUSING AUTHORITY | R
MA007—NEW BEDFORD HOUSING AUTHORITY | R
MA008—CHICOPEE HOUSING AUTHORITY | R
MA010—LAWRENCE HOUSING AUTHORITY | R
MA012—WORCESTER HOUSING AUTHORITY | R
MA014—REVERE HOUSING AUTHORITY | R
MA015—MEDFORD HOUSING AUTHORITY | R
MA016—CHELSEA HOUSING AUTHORITY | R
MA017—TAUNTON HOUSING AUTHORITY | R
MA019—WOBURN HOUSING AUTHORITY | R
MA022—MALDEN HOUSING AUTHORITY | R
MA023—LYNN HOUSING AUTHORITY | R
MA024—BROCKTON HOUSING AUTHORITY | R
MA025—GLOUCESTER HOUSING AUTHORITY | R
MA028—FRAMINGHAM HOUSING AUTHORITY | R
MA031—SOMERVILLE HOUSING AUTHORITY | R
MA033—BROOKLINE HOUSING AUTHORITY | R
MA035—SPRINGFIELD HOUSING AUTHORITY | R
MD001—ANNAPOLIS HOUSING AUTHORITY | R
MD002—BALTIMORE CITY HOUSING AUTHORITY | R
MD003—FREDERICK HOUSING AUTHORITY | R
MD004—MONTGOMERY CO HOUSING AUTHORITY | R
MD005—CUMBERLAND HOUSING AUTHORITY | R
MD006—HAGERSTOWN HOUSING AUTHORITY | R
MD007—ROCKVILLE HOUSING AUTHORITY | R
MD012—HAVRE DE GRACE HOUSING AUTHORITY | R
MD013—ST. MICHAELS HOUSING AUTHORITY | R
MD015—PRINCE GEORGES COUNTY HOUSING AUTHORITY | R
MD018—ANNE ARUNDEL COUNTY HOUSING AU | R
ME003—PORTLAND HOUSING AUTHORITY | R
ME005—LEWISTON HOUSING AUTHORITY | R
ME006—BRUNSWICK HOUSING AUTHORITY | R
MI001—DETROIT HC | R
MI004—HAMTRAMCK HC | R
MI005—PONTIAC HC | R
MI006—SAGINAW HC | R
MI007—ECORSE HC | R
MI008—RIVER ROUGE HC | R
MI009—FLINT HC | R
MI010—BENTON HARBOR HSG COMM | R
MI014—ALBION HGS COMM | R
MI026—YPSILANTI HC | R
MI027—INKSTER HC | R
MI028—MOUNT CLEMENS HC | R
MI031—MUSKEGON HEIGHTS | R
MI039—PORT HURON HC | R
MI058—LANSING HOUSING COMMISSION | R
MI064—ANN ARBOR HC | R
MI072—ROMULUS HC | R
MI073—GRAND RAPIDS HOUSING COMM | R
MN001—ST PAUL PHA | R
MN002—MINNEAPOLIS PHA | R
MN003—DULUTH HRA | R
MO001—ST. LOUIS HOUSING AUTHORITY | R
MO002—KANSAS CITY, MO | R
MO004—ST. LOUIS COUNTY HOUSING AUTHO | R
MO005—KINLOCH HA | R
MO007—COLUMBIA HOUSING AUTHORITY | R
MO009—JEFFERSON CITY HOUSING AUTHORITY | R
MO010—MEXICO HOUSING AUTHORITY | R
MO011—MOBERLY HA | R
MO012—CHARLESTON HA | R
MO014—FULTON HOUSING AUTHORITY | R
MO017—INDEPENDENCE | R
MO031—CLINTON | R
MO058—SPRINGFIELD | R
MO068—RICHLAND | R
MO070—RICHMOND | R
MO111—MACON HOUSING AUTHORITY | R
MO129—HANNIBAL HOUSING AUTHORITY | R
MO132—OLIVETTE HA | R
MO138—WELLSTON HA | R
MO218—PAGEDALE HA | R
MO220—HILLSDALE HA | R
MS001—HATTIESBURG | R
MS002—LAUREL | R
MS003—MCCOMB | R
MS004—MERIDIAN | R
MS005—HA BILOXI | R
MS007—CLARKSDALE | R
MS019—MISS REG HSG AUTH IV | R
MS030—HA MISSISSIPPI REGIONAL NO V | R
MS040—MISS REGIONAL H/A VIII | R
MS047—STARKVILLE | R
MS058—MISS REGIONAL H/A VI | R
MS059—WEST POINT | R
MS060—BROOKHAVEN | R
MS062—HOLLY SPRINGS | R
MS063—YAZOO CITY | R
MS064—BAY ST. LOUIS | R
MS066—PICAYUNE | R
MS07—1ABERDEEN | R
MS072—CORINTH | R
MS076—COLUMBUS | R
MS077—TUPELO | R
MS079—LOUISVILLE | R
MS082—WINONA | R
MS084—SUMMIT | R
MS086—VICKSBURG | R
MS090—SENATOBIA | R
MS093—OXFORD | R
MS099—LUMBERTON | R
MS101—WAVELAND | R
MS103—JACKSON | R
MS105—NATCHEZ | R
MS107—HSG AUTH CITY OF GREENWOOD MS | R
MS117—ATTALA COUNTY | R
MS121—ITTA BENA | R
MT001—BILLINGS | R
MT002—GREAT FALLS | R
MT004—HELENA | R
NC001—HA WILMINGTON | R
NC002—RALEIGH HA | R
NC003—HA CHARLOTTE | R
NC004—KINSTON H/A | R
NC005—NEW BERN | R
NC006—HA HIGH POINT | R
NC007—HA ASHEVILLE | R
NC008—CITY OF CONCORD | R
NC009—FAYETTEVILLE METROPOLITAN H/A | R
NC010—EASTERN CAROLINA REGIONAL | R
NC011—HA GREENSBORO | R
NC012—HA WINSTON-SALEM | R
NC013—HA DURHAM | R
NC014—HA LUMBERTON | R
NC015—HA GOLDSBORO | R
NC016—SALISBURY | R
NC018—HA LAURINBURG | R
NC019—HA ROCKY MOUNT | R
NC020—HA WILSON | R
NC022—H/A CITY OF GREENVILLE | R
NC025—HA ROCKINGHAM | R
NC026—ELIZABETH CITY | R
NC027—HENDERSONVILLE | R
NC028—BENSON | R
NC031—HERTFORD | R
NC032—HA WASHINGTON | R
NC035—HA SANFORD | R
NC036—SELMA | R
NC039—HA LEXINGTON | R
NC040—SMITHFIELD | R
NC043—TROY | R
NC046—CHAPEL HILL | R
NC047—FAIRMONT | R
NC048—MAXTON | R
NC049—MORGANTON | R
NC052—SOUTHERN PINES | R
NC053—HAMLET | R
NC056—HA HICKORY | R
NC057—GASTONIA H/A | R
NC059—H A GRAHAM | R
NC060—ROXBORO | R
NC061—BEAUFORT | R
NC065—HA MONROE | R
NC066—BURLINGTON | R
NC069—NORTH WILKESBORO | R
NC070—HA LINCOLNTON | R
NC071—HA THOMASVILLE | R
NC072—HA STATESVILLE | R
NC073—OXFORD | R
NC074—LENOIR | R
NC075—HA ALBEMARLE | R
NC076—FARMVILLE | R
NC077—HA WILLIAMSTON | R
NC079—DUNN | R
NC081—HA ASHEBORO | R
NC082—AYDEN | R
NC084—ROBESON COUNTY | R
NC085—AHOSKIE | R
NC088—BELMONT | R
NC095—FOREST CITY | R
NC102—HA ROWAN COUNTY | R
NC114—PEMBROKE | R
NC117—ROANOKE RAPIDS | R
NC174—VANCE COUNTY | R
NE001—OMAHA HOUSING AUTHORITY | R
NE003—HALL COUNTY HOUSING AUTHORITY | R
NE078—SCOTTS BLUFF HOUSING AUTHORITY | R
NH001—MANCHESTER HOUSING AUTHORITY | R
NH002—NASHUA HOUSING AUTHORITY | R
NH003—DOVER HOUSING AUTHORITY | R
NH005—CONCORD HOUSING AUTHORITY | R
NH007—LACONIA HOUSING & REDEVELOPMENT AUTHORITY | R
NH009—LEBANON HOUSING AUTHORITY | R
NJ002—NEWARK HA | R
NJ003—ELIZABETH HA | R
NJ004—NORTH BERGEN HA | R
NJ005—TRENTON HA | R
NJ006—PERTH AMBOY HA | R
NJ007—ASBURY PARK HA | R
NJ008—LONG BRANCH HA | R
NJ009—JERSEY CITY HA | R
NJ010—CAMDEN H A | R
NJ012—BAYONNE HA | R
NJ013—PASSAIC HA | R
NJ014—ATLANTIC CITY HA | R
NJ015—HOBOKEN HA | R
NJ016—HARRISON H A | R
NJ021—PATERSON HA | R
NJ022—NEW BRUNSWICK HA | R
NJ023—MORRISTOWN HA | R
NJ025—ORANGE CITY HA | R
NJ026—UNION CITY HA | R
NJ030—WEST NEW YORK HA | R
NJ032—RAHWAY HA | R
NJ033—WOODBRIDGE HA | R
NJ034—GARFIELD H A | R
NJ037—IRVINGTON HA | R
NJ039—PLANFIELD HA | R
NJ041—HIGHLANDS H A | R
NJ042—FRANKLIN H A | R
NJ043—EDISON HA | R
NJ045—HIGHTSTOWN H A | R
NJ047—CARTERET HA | R
NJ048—NEPTUNE HA | R
NJ049—BRIDGETON HA | R
NJ050—EAST ORANGE HA | R
NJ051—GLASSBORO HA | R
NJ054—LAKEWOOD HA | R
NJ058—SALEM HA | R
NJ059—PLEASANTVILLE H A | R
NJ061—MILLVILLE HA | R
NJ063—VINELAND HA | R
NJ080—WILDWOOD H A | R
NM001—ALBUQUERQUE HOUSING AUTHORITY | R
NM003—LAS CRUCES HOUSING AUTHORITY | R
NM004—ALAMOGORDO HOUSING AUTHORITY | R
NM007—LAS VEGAS HOUSING AUTHORITY | R
NM009—SANTA FE CIVIC HOUSING AUTHORITY | R
NM020—TRUTH OR CONSEQUENCES HOUSING AUTHORITY | R
NM035—BERNALILLO (TOWN OF) HOUSING AUTHORITY | R
NM038—TAOS COUNTY HOUSING AUTHORITY | R
NM050—SANTA FE COUNTY HSG AUTHORITY | R
NV001—CITY OF RENO HSG AUTHORITY | R
NV002—CITY OF LAS VEGAS HSG AUTH | R
NV007—NORTH LAS VEGAS HOUSING AUTHOR | R
NV013—COUNTY OF CLARK HOUSING AUTHOR | R
NY001—SYRACUSE HA | R
NY002—BUFFALO MUNICIPAL HA | R
NY003—YONKERS HA, CITY OF | R
NY005—NEW YORK CITY HA | R
NY006—UTICA HA | R
NY008—TUCKAHOE HA | R
NY009—ALBANY HA | R
NY011—NIAGARA FALLS HA | R
NY012—TROY HA | R
NY014—PORT CHESTER HA | R
NY016—BINGHAMTON HA | R
NY018—PLATTSBURGH HA | R
NY019—HERKIMER HA | R
NY020—SARATOGA SPRINGS HA | R
NY022—COHOES HA | R
NY023—FREEPORT HA | R
NY025—WATERVLIET HA | R
NY028—SCHENECTADY HA | R
NY029—LACKAWANNA HA | R
NY031—MASSENA HA | R
NY032—CATSKILL HA | R
NY033—RENSSELAER HA | R
NY041—ROCHESTER HA | R
NY044—GENEVA HA | R
NY045—KINGSTON HA | R
NY046—HEMPSTEAD HA, TOWN OF | R
NY050—LONG BEACH HA | R
NY054—ITHACA HA | R
NY056—SPRING VALLEY HA | R
NY057—GREENBURGH HA | R
NY059—ILION HA | R
NY060—AMSTERDAM HA | R
NY061—HUDSON HA | R
NY062—POUGHKEEPSIE HA | R
NY069—GLEN COVE HA | R
NY071—MONTICELLO HA | R
NY082—PEEKSKILL HA | R
NY088—NEW ROCHELLE HA | R
NY089—NEWARK HA | R
OH001—COLUMBUS MHA | R
OH002—YOUNGSTOWN MHA | R
OH003—CUYAHOGA MHA | R
OH004—CINCINNATI MHA | R
OH005—DAYTON MHA | R
OH006—LUCAS MHA | R
OH007—AKRON MHA | R
OH008—TRUMBULL MHA | R
OH009—ZANESVILLE MHA | R
OH010—PORTSMOUTH MHA | R
OH012—LORAIN MHA | R
OH014—JEFFERSON MHA | R
OH015—BUTLER MHA | R
OH018—STARK MHA | R
OH021—SPRINGFIELD MHA | R
OH023—LONDON MHA | R
OH024—CHILLICOTHE MHA | R
OH026—COLUMBIANA MHA | R
OH029—ASHTABULA MHA | R
OH037—COSHOCTON MHA | R
OH044—ALLEN MHA | R
OK002—OKLAHOMA CITY | R
OK004—IDABEL | R
OK005—LAWTON | R
OK044—HUGO | R
OK062—MC ALESTER | R
OK073—TULSA | R
OK095—SHAWNEE | R
OK099—MUSKOGEE | R
OK139—NORMAN | R
OK146—STILLWATER | R
OR001—CLACKAMAS | R
OR002—HAP | R
OR005—LINCOLN | R
OR006—LANE | R
OR009—NORTH BEND | R
OR011—SALEM | R
PA001—HOUSING AUTH CITY OF PITTSBURG | R
PA002—PHILADELPHIA HOUSING AUTHORITY | R
PA003—SCRANTON HOUSING AUTHORITY | R
PA004—ALLENTOWN HOUSING AUTHORITY | R
PA005—MCKEESPORT HOUSING AUTHORITY | R
PA006—ALLEGHENY COUNTY HOUSING AUTHO | R
PA007—CHESTER HOUSING AUTHORITY | R
PA008—HARRISBURG HOUSING AUTHORITY | R
PA009—READING HOUSING AUTHORITY | R
PA011—BETHLEHEM HOUSING AUTHORITY | R
PA012—MONTGOMERY COUNTY HOUSING AUTH | R
PA013—ERIE CITY HOUSING AUTHORITY | R
PA014—BEAVER COUNTY HOUSING AUTHORIT | R
PA015—FAYETTE COUNTY HOUSING AUTHORI | R
PA017—WASHINGTON COUNTY HOUSING AUTH | R
PA018—WESTMORELAND COUNTY HSG AUTHOR | R
PA019—JOHNSTOWN HOUSING AUTHORITY | R
PA020—MERCER COUNTY HOUSING AUTHORIT | R
PA022—YORK CITY HOUSING AUTHORITY | R
PA023—DELAWARE COUNTY HOUSING AUTHOR | R
PA024—EASTON HOUSING AUTHORITY | R
PA026—HOUSING AUTH CO OF LAWRENCE | R
PA036—LANCASTER HOUSING AUTHORITY | R
PA038—LACKAWANNA COUNTY HOUSING AUTH | R
PA044—HAZLETON HOUSING AUTHORITY | R
PA046—HOUS AUTH OF THE CO OF CHESTER | R
PA047—WILKES BARRE HOUSING AUTHORITY | R
PA051—BUCKS COUNTY HOUSING AUTHORITY | R
PA057—LUZERNE COUNTY HOUSING AUTHORI | R
PA088—CENTRE COUNTY HOUSING AUTHORIT | R
RI001—PROVIDENCE HOUSING AUTHORITY | R
RI002—PAWTUCKET HOUSING AUTHORITY | R
RI003—WOONSOCKET HOUSING AUTHORITY | R
RI005—NEWPORT HOUSING AUTHORITY | R
PQ005—PRPHA | R
SC001—CHARLESTON | R
SC002—COLUMBIA | R
SC003—SPARTANBURG | R
SC004—GREENVILLE | R
SC007—AIKEN | R
SC008—SOUTH CAROLINA REGION NO 1 | R
SC017—GAFFNEY | R
SC022—ROCK HILL | R
SC024—SOUTH CAROLINA REGION NO 3 | R
SC025—CONWAY | R
SC026—BEAUFORT | R
SC027—FLORENCE | R
SC028—GEORGETOWN | R
SC031—CHERAW | R
SC036—FORT MILL | R
SC037—ANDERSON | R
SC046—YORK | R
SC048—MCCOLL | R
SC057—NORTH CHARLESTON | R
SC059—MARLBORO COUNTY | R
SC061—CAYCE | R
TN001—MEMPHIS | R
TN002—JOHNSON CITY HOUSING AUTHORITY | R
TN003—KNOXVILLE COMMUNITY DEVEL CORP | R
TN004—CHATTANOOGA HOUSING AUTHORITY | R
TN005—MDHA | R
TN006—KINGSPORT HOUSING AND REDEVELOPMENT AUTHORITY | R
TN007—JACKSON | R
TN010—CLARKSVILLE | R
TN011—PULASKI | R
TN013—BROWNSVILLE | R
TN014—FAYETTEVILLE | R
TN020—MURFREESBORO | R
TN024—TULLAHOMA | R
TN027—HUMBOLDT | R
TN029—GALLATIN | R
TN033—COOKEVILLE | R
TN035—FRANKLIN | R
TN036—SPRINGFIELD | R
TN039—SHELBYVILLE | R
TN042—CROSSVILLE HOUSING AUTHORITY | R
TN048—LAWRENCEBURG | R
TN053—MCMINNVILLE | R
TN054—CLEVELAND HOUSING AUTHORITY | R
TN057—RIPLEY | R
TN065—MARYVILLE HOUSING AUTHORITY | R
TN075—NEWBERN | R
TN088—OAK RIDGE HOUSING AUTHORITY | R
TX001—AUSTIN HOUSING AUTHORITY | R
TX003—EL PASO | R
TX004—FORT WORTH | R
TX005—HOUSTON HOUSING AUTHORITY | R
TX006—SAN ANTONIO HOUSING AUTHORITY | R
TX007—BROWNSVILLE HOUSING AUTHORITY | R
TX008—CORPUS CHRISTI HOUSING AUTHORITY | R
TX009—DALLAS | R
TX010—WACO | R
TX011—LAREDO HOUSING AUTHORITY | R
TX012—BAYTOWN HOUSING AUTHORITY | R
TX014—TEXARKANA | R
TX016—DEL RIO HOUSING AUTHORITY | R
TX017—GALVESTON HOUSING AUTHORITY | R
TX018—LUBBOCK | R
TX022—WICHITA FALLS | R
TX023—BEAUMONT | R
TX024—COMMERCE | R
TX025—SAN BENITO HOUSING AUTHORITY | R
TX026—DENISON | R
TX027—MCKINNEY | R
TX028—MC ALLEN HOUSING AUTHORITY | R
TX029—MERCEDES HOUSING AUTHORITY | R
TX030—TEMPLE | R
TX032—TEXAS CITY HOUSING AUTHORITY | R
TX034—PORT ARTHUR | R
TX037—ORANGE | R
TX046—MISSION HOUSING AUTHORITY | R
TX048—PARIS | R
TX051—WESLACO HOUSING AUTHORITY | R
TX054—NEW BOSTON | R
TX062—EDINBURG HOUSING AUTHORITY | R
TX064—ALAMO HOUSING AUTHORITY | R
TX065—HARLINGEN HOUSING AUTHORITY | R
TX073—PHARR HOUSING AUTHORITY | R
TX078—SHERMAN | R
TX085—VICTORIA HOUSING AUTHORITY | R
TX087—SAN MARCOS HOUSING AUTHORITY | R
TX114—KINGSVILLE HOUSING AUTHORITY | R
TX128—PLANO | R
TX163—ROBSTOWN HOUSING AUTHORITY | R
TX177—DONNA HOUSING AUTHORITY | R
TX257—SLATON | R
TX327—ABILENE | R
TX355—EL CAMPO HOUSING AUTHORITY | R
TX395—PORT LAVACA HOUSING AUTHORITY | R
TX406—HUNTSVILLE HOUSING AUTHORITY | R
TX408—MONAHANS | R
TX439—ANTHONY | R
TX448—LA JOYA HOUSING AUTHORITY | R
TX449—ROMA HOUSING AUTHORITY | R
TX455—ODESSA | R
TX470—SAN ANGELO | R
TX486—NACOGDOCHES | R
TX509—CAMERON COUNTY HOUSING AUTHORITY | R
TX538—EL PASO COUNTY | R
UT003—SALT LAKE COUNTY | R
UT004—SALT LAKE CITY | R
UT007—PROVO CITY | R
VA001—PORTSMOUTH REDEVELOPMENT & H/A | R
VA002—BRISTOL REDEVELOPMENT HOUSING | R
VA003—NEWPORT NEWS REDEVELOPMENT & H | R
VA004—ALEXANDRIA REDEVELOPMENT & H/A | R
VA005—HOPEWELL REDEVELOPMENT & H/A | R
VA006—NORFOLK REDEVELOPMENT & H/A | R
VA007—RICHMOND REDEVELOPMENT & H/A | R
VA010—DANVILLE REDEVELOPMENT AND H/A | R
VA011—ROANOKE REDEVELOPMENT & H/A | R
VA012—CHESAPEAKE REDEVELOPMENT & H/A | R
VA015—NORTON REDEVELOPMENT & H/A | R
VA017—HAMPTON REDEVELOPEMENT & HSG A | R
VA019—FAIRFAX COUNTY REDEVELOPMENT AND HOUSING AUTHORITY | R
VA020—PETERSBURG REDEVELOPMENT & H/A | R
VA022—WAYNESBORO REDEVELOPMENT & H/A | R
VA025—SUFFOLK REDEVELOPMENT & H/A | R
VA029—CUMBERLAND PLATEAU REGIONAL H/ | R
VQ001—VIHA | R
VT005—BARRE HOUSING AUTHORITY | R
WA001—SEATTLE HA | R
WA002—KING CO HA | R
WA003—BREMERTON HA | R
WA004—CLALLAM CO HA | R
WA005—TACOMA HA | R
WA008—VANCOUVER | R
WA021—PASCO HA | R
WA025—BELLINGHAM HA | R
WA036—KITSAP CO HA | R
WA039—SNOHOMISH CO HA | R
WA042—YAKIMA HA | R
WI001—SUPERIOR HA | R
WI002—MILWAUKEE HA | R
WI003—MADISON HA | R
WV001—CHARLESTON HOUSING AUTHORITY | R
WV003—WHEELING HOUSING AUTHORITY | R
WV004—HUNTINGTON HOUSING AUTHORITY | R
WV005—PARKERSBURG HOUSING AUTHORITY | R
WV006—MARTINSBURG HOUSING AUTHORITY | R
WV008—WILLIAMSON HOUSING AUTHORITY | R
WV011—MOUNDSVILLE HOUSING AUTHORITY | R
WV014—BENWOOD HOUSING AUTHORITY | R
WV018—BLUEFIELD HOUSING AUTHORITY | R
WV019—MCMECHEN HOUSING AUTHORITY | R
WV022—SOUTH CHARLESTON HOUSING AUTHORITY | R
WV027—CLARKSBURG HOUSING AUTHORITY | R
WV036—KANAWHA COUNTY HOUSING AUTHORITY | R

Table 2
PHA Code and PHA Name | Eligibility
AZ038—PEORIA | N1
CA009—UPLAND HOUSING | N1
CA030—TULARE COUNTY HOUSING AUTH | N1
CA035—SAN BUENAVENTURA CITY | N1
CA058—CITY OF BERKELEY HOUSING AUTHO | N1
CA059—COUNTY OF SANTA CLARA HOUSING | N1
CA108—SAN DIEGO COUNTY | N1
CA142—DUBLIN | N1
CO014—WELLINGTON | N1
CO028—COLORADO SPRINGS | N1
CO035—GREELEY | N1
CO041—FORT COLLINS | N1
CO049—LAKEWOOD | N1
CO052—AURORA | N1
CO059—LOUISVILLE | N1
CO061—BOULDER COUNTY | N1
CO070—LONGMONT | N1
FL017—MIAMI BEACH | N1
FL061—DUNEDIN | N1
FL062—PINELLAS COUNTY | N1
FL119—BOCA RATON | N1
FL136—HOLLYWOOD | N1
GA129—LEE COUNTY | N1
GA161—HARRIS COUNTY | N1
GA179—BUENA VISTA | N1
GA214—ELLAVILLE | N1
IA018—SIOUX CITY | N1
IA023—COUNCIL BLUFFS | N1
IA045—DAVENPORT | N1
IA050—WATERLOO | N1
IA131—CENTRAL IOWA | N1
ID013—BOISE CITY | N1
ID020—IHFA | N1
ID021—ADA | N1
IL005—GRANITE CITY HOUSING AUTHORITY | N1
IN004—DELAWARE COUNTY HOUSING AUTHORITY | N1
IN006—ANDERSON HOUSING AUTHORITY | N1
IN020—MISHAWAKA HOUSING AUTHORITY | N1
IN021—TERRE HAUTE HOUSING AUTHORITY | N1
IN022—BLOOMINGTON HOUSING AUTHORITY | N1
KS004—WICHITA | N1
KS038—SALINA | N1
KS043—OLATHE | N1
KS068—LEAVENWORTH | N1
KS071—GARDEN CITY | N1
LA002—SHREVEPORT HSG AUTHORITY | N1
LA023—ALEXANDRIA HOUSING AUTHORITY | N1
LA042—BOSSIER CITY HOUSING AUTHORITY | N1
MA020—QUINCY HOUSING AUTHORITY | N1
MI003—DEARBORN HC | N1
MI035—BATTLE CREEK HSG COMMISSION | N1
MI040—CLINTON TOWNSHIP HC | N1
MI055—LIVONIA HC | N1
MI089—TAYLOR HC | N1
MI115—WYOMING HC | N1
MI157—STERLING HEIGHTS HC | N1
MI180—NEW HAVEN HC | N1
MN152—BLOOMINGTON HRA | N1
MO003—ST JOSEPH | N1
MO006—ST CHARLES HOUSING AUTHORITY | N1
MO030—LEE'S SUMMIT | N1
NC044—MOUNT GILEAD | N1
ND014—FARGO | N1
NE002—LINCOLN HOUSING AUTHORITY | N1
NE004—KEARNEY HOUSING AUTHORITY | N1
NE153—DOUGLAS COUNTY HOUSING AUTHORI | N1
NM002—CLOVIS HOUSING AUTHORITY | N1
NM057—BERNALILLO COUNTY HOUSING AUTHORITY | N1
NM062—DONA ANA COUNTY HOUSING AUTHORITY | N1
NM063—REGION VI HOUSING AUTHORITY | N1
OR014—MARION | N1
OR015—JACKSON | N1
PA071—BERKS COUNTY HOUSING AUTHORITY | N1
RI011—WARWICK HOUSING AUTHORITY | N1
SC056—CHARLESTON COUNTY | N1
SD016—SIOUX FALLS | N1
SD045—PENNINGTON COUNTY | N1
TN095—SHELBY COUNTY | N1
TN11—KNOX COUNTY HOUSING AUTHORITY | N1
TX020—BRYAN HOUSING AUTHORITY | N1
TX079—KILLEEN | N1
TX379—MIDLAND | N1
TX452—BEXAR COUNTY HOUSING AUTHORITY | N1
TX480—TRAVIS COUNTY HOUSING AUTHORITY | N1
UT002—OGDEN | N1
UT011—UTAH COUNTY | N1
UT025—WEST VALLEY CITY | N1
VA013—LYNCHBURG REDEVELOPMENT & H/A | N1
WA006—EVERETT HA | N1
WA011—RENTON HA | N1
WA012—KENNEWICK HA | N1
WA030—SEDRO WOOLLEY HA | N1
WA041—WHATCOM CO HA | N1
WA054—PIERCE CO HA | N1
WA055—SPOKANE HA | N1
WI006—LA CROSSE HA | N1
WI074—GREEN BAY HA | N1

Table 3
PHA Code and PHA Name | Eligibility
AL175—LIVINGSTON | N2
AR148—ENGLAND | N2
AZ013—YUMA COUNTY | N2
CA067—ALAMEDA COUNTY HSG AUTH | N2
GA081—HARTWELL | N2
GA201—JASPER | N2
IA107—FORT DODGE | N2
KY015—HA NEWPORT | N2
LA029—CROWLEY | N2
LA055—OPELOUSAS HOUSING AUTHORITY | N2
LA103—SLIDELL HOUSING AUTHORITY | N2
LA123—WINNFIELD HOUSING AUTHORITY | N2
MN151—OLMSTED COUNTY HRA | N2
MT003—BUTTE | N2
NC017—REDEVELOPMENT COMM TARBORO | N2
NY077—ISLIP HA, TOWN OF | N2
NY085—HEMPSTEAD HA, VILLAGE OF | N2
OH031—PORTAGE MHA | N2
PA031—ALTOONA HOUSING AUTHORITY | N2
PA052—LEBANON COUNTY HOUSING AUTHORI | N2
TN008—PARIS | N2
TN041—COVINGTON | N2
TN076—ELIZABETHTON HOUSING AND DEVELOPMENT | N2
TX015—WAXAHACHIE | N2
TX019—EAGLE PASS HOUSING AUTHORITY | N2
TX038—BONHAM | N2
TX092—LADONIA | N2
TX113—ORANGE COUNTY | N2
TX173—PORT ISABEL HOUSING AUTHORITY | N2
TX300—CARRIZO SPRINGS HOUSING AUTHORITY | N2
WV009—FAIRMONT HOUSING AUTHORITY | N2

Dated: May 3, 2000.
Harold Lucas,
Assistant Secretary for Public and Indian Housing.

[FR Doc. 00-11696 Filed 5-9-00; 8:45 am]

BILLING CODE 4210-33-P